DEPARTMENT OF COMMERCE

Office of the Secretary, Office of Security; Submission for OMB Review; Comment Request; Foreign National Request Form

The Department of Commerce will submit to the Office of Management and Budget (OMB) for clearance the following proposal for collection of information under the provisions of the Paperwork Reduction Act (44 U.S.C. Chapter 35).

Agency: Office of the Secretary, Office of Security (OSY), Commerce.

Title: Foreign National Request Form.

OMB Control Number: 0690-0033.

Form Number(s): 207-12-1.

Type of Request: Regular (extension of a currently approved information collection).

Number of Respondents: 12,000.

Average Hours per Response: 15 minutes.

Burden Hours: 3,000.

Estimated Total Annual Cost to Public: $0.

Needs and Uses: The Office of Security is requesting clearance of this collection to gather information to mitigate variances in foreign access management program implementation and registration information requirements needed to reach risk-based determinations of physical and logical access by foreign national visitors and guests to Commerce facilities and resources. The information collected will be used for risk-based assessments of short-term access or as partial completion towards long term guest research agreements and supporting security and background investigations for potential personal identity credential issuance in compliance with U.S. laws and regulations governing physical and logical access to federal facilities and information resources. Due to the increasing diversity of foreign national participation in departmental programs, considerable efforts have been made to baseline requirements as a means to define uniform program standards as well as to expand current guidance beyond foreign visitor control to manage emerging risks associated with physical and logical access to the Department' s facilities and resources.

Affected Public: Individuals and households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-08324 Filed 4-24-19; 8:45 am]

BILLING CODE 3510-17-P